DEPARTMENT OF HOMELAND SECURITY

Federal Emergency Management Agency

[Docket ID FEMA-2022-0029; OMB No. 1660-NW152]

Agency Information Collection Activities: Proposed Collection; Comment Request; Logistics Supply Chain Management System Cloud (LSCMS-C) Access Control Form

AGENCY: Federal Emergency Management Agency, Department of Homeland Security.

ACTION: 60-Day notice of new collection and request for comments.

SUMMARY: The Federal Emergency Management Agency, as part of its continuing effort to reduce paperwork and respondent burden, invites the public to take this opportunity to comment on an existing information collection in use without an Office of Management and Budget (OMB) control number. In accordance with the Paperwork Reduction Act of 1995, this notice seeks comments concerning the Logistics Supply Chain Management System Cloud (LSCMS-C) Access Control Form, which is required for internal and external personnel who need access to the LSCMS-C operational system to process supply chain management transactions.

DATES: Comments must be submitted on or before January 9, 2023.

ADDRESSES: Submit comments at www.regulations.gov under Docket ID FEMA-2022-0029. Follow the instructions for submitting comments.

All submissions received must include the agency name and Docket ID, and will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Natasha Hinkson, Logistics Management Directorate, Logistics System Division IT Support Branch Chief, 202-658-9394, Natasha.Hinkson@fema.dhs.gov. You may contact the Information Management Division for copies of the proposed collection of information at email address: FEMA-Information-Collections-Management@fema.dhs.gov.

SUPPLEMENTARY INFORMATION: The LSCMS-C system requires role-based access, which is based on an individual's position, to complete day to day supply chain management transactions for the Office of Response and Recovery's Logistics Management Directorate (LMD). Transactions include the ordering, tracking, monitoring, reporting, and shipping of FEMA assets and critical commodities both domestically and Outside the Continental United States (OCONUS) in support of disaster operations.

Authorized users of the LSCMS-C operational system will have access to minimal personally identifiable information, primarily point of contact information associated with the disaster commodities and assets order entry request for other end users to complete the fulfillment of FEMA orders for ordering, receiving, and delivery of the commodities and assets for FEMA Disaster Response and Recovery activities, as well as non-disaster activities for Mission Support.

The Transportation Service Providers (TSP) Registration Form is additionally required for Transportation Service Providers who would like to apply to be a part of the FEMA Standard Tender of Service (FEMA STOS) program for FEMA STOS specific information that will be included in their LSCMS-C profiles.

The authorities to collect and use this information are applicable to all Federal agencies under the Interstate Commerce Act, Federal Acquisition Regulation (FAR), and General Services Administration's Federal Management Regulation. The authorities include:

• Interstate Commerce Act, 49 U.S.C. 10721, 13712;

• Federal Acquisition Regulation, Subpart A-General; part 47, “Transportation”;

• Federal Management Regulation, 41 CFR parts 102-117, 102-118;

• The Robert T. Stafford Disaster Relief and Emergency Assistance Act, 42 U.S.C. 5121-5207;

• Homeland Security Act of 2002, 6 U.S.C. 311 et seq.

Collection of Information

Title: Logistics Supply Chain Management System Cloud (LSCMS-C) Access Control Form.

Type of Information Collection: Existing collection in use without an OMB control number.

OMB Number: 1660-NW152.

FEMA Forms: FEMA Form FF-145-FY-22-102 (formerly 119-0-0-20), Logistics Supply Chain Management System Cloud (LSCMS-C) Access Control Form; FEMA Form FF-145-FY-22-103, Transportation Service Providers (TSP) Registration Form.

Abstract: The Logistics Supply Chain Management System Cloud (LSCMS-C) Access Control Form is required for FEMA or Non-FEMA personnel who require access to the LSCMS-C operational system, enabling end users to process supply chain management transactions. The LSCMS-C Access Control Form is completed by internal and external users who require access. The Transportation Service Providers (TSP) Registration Form is additionally required for Transportation Service Providers who would like to apply to be a part of the FEMA Standard Tender of Service (FEMA STOS) program for FEMA STOS specific information that will be included in their LSCMS-C profiles.

Affected Public: Business or other for-profit.

Estimated Number of Respondents: 984.

Estimated Number of Responses: 2,952.

Estimated Total Annual Burden Hours: 885.6.

Estimated Total Annual Respondent Cost: $25,531.

Estimated Respondents' Operation and Maintenance Costs: $0.

Estimated Respondents' Capital and Start-Up Costs: $0.

Estimated Total Annual Cost to the Federal Government: $3,775,509.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-24527 Filed 11-9-22; 8:45 am]

BILLING CODE 9111-24-P